DEPARTMENT OF THE INTERIOR

National Park Service

Notice of Inventory Completion: Renton Historical Society and Museum, Renton, WA

AGENCY: National Park Service, Interior.

ACTION: Notice.

Notice is here given in accordance with the Native American Graves Protection and Repatriation Act (NAGPRA), 25 U.S.C. 3003, of the completion of an inventory of human remains in the control of the Renton Historical Society and Museum, Renton, WA. The human remains were removed from King County, WA.

This notice is published as part of the National Park Service's administrative responsibilities under NAGPRA, 25 U.S.C. 3003 (d)(3). The determinations in this notice are the sole responsibility of the museum, institution, or Federal agency that has control of the human remains. The National Park Service is not responsible for the determinations in this notice.

A detailed assessment of the human remains was made by Renton Historical Society and Museum professional staff in consultations with representatives of the Muckleshoot Indian Tribe of the Muckleshoot Reservation, Washington.

In the early 1900s, human remains representing a minimum of one individual were removed from an unknown site on the beach of southern Lake Washington, Renton, King County, WA, by Carl Mattison, a local resident. In 1978, the human remains were donated to the Renton Historical Society and Museum by Marilyn Calcaterra and Judith Matson. No known individual was identified. No associated funerary objects are present.

Based on a cursory physical examination of the human remains and general knowledge of indigenous habitation of the Lake Washington area prior to colonization by Europeans, the human remains are presumed to comprise the partial skeleton of an individual of Native American ancestry. According to museum records, the donor speculated that a mass burial site, similar to those used by Native Americans, was within the general area where the human remains were unearthed. Moreover, Native Americans have been known to populate the area surrounding Lake Washington since before contact. Descendants of the original inhabitants are members of the Muckleshoot Indian Tribe of the Muckleshoot Reservation, Washington, and the Lake Washington area is within their aboriginal territory.

Officials of the Renton Historical Society and Museum have determined that, pursuant to 25 U.S.C. 3001 (9-10), the human remains described above represent the physical remains of one individual of Native American ancestry. Officials of the Renton Historical Society and Museum also have determined that, pursuant to 25 U.S.C. 3001 (2), there is a relationship of shared group identity that can be reasonably traced between the Native American human remains and the Muckleshoot Indian Tribe of the Muckleshoot Reservation, Washington.

Representatives of any other Indian tribe that believes itself to be culturally affiliated with the human remains should contact Laura Crawford, Acting Collections Manager, Renton Historical Museum, 235 Mill Avenue South, Renton, WA 98055, telephone (425) 255-2330, before March 6, 2006. Repatriation of the human remains to the Muckleshoot Indian Tribe of the Muckleshoot Reservation, Washington may proceed after that date if no additional claimants come forward.

The Renton Historical Society and Museum is responsible for notifying the Muckleshoot Indian Tribe of the Muckleshoot Reservation, Washington that this notice has been published.

Dated: January 20, 2006.
C. Timothy McKeown,
Acting Manager, National NAGPRA Program.

[FR Doc. E6-1378 Filed 2-1-06; 8:45 am]

BILLING CODE 4312-50-S